DEPARTMENT OF HEALTH AND HUMAN SERVICES

National Institutes of Health

Center for Scientific Review; Amended Notice of Meeting

Notice is hereby given of a change in the meeting of the Hemostasis and Thrombosis Study Section, February 19, 2004, 8:30 p.m. to February 20, 2004, 3:30 p.m. Holiday Inn Select Bethesda, 8120 Wisconsin Ave, Bethesda, MD 20814 which was published in the Federal Register on January 27, 2004, 69 FR 3931-3934.

The meeting will be held at the Holiday Inn Georgetown, 2201 Wisconsin Avenue, NW., Washington, DC 20007. The date and time remain the same. The meeting is closed to the public.

Dated: February 6, 2004.
LaVerne Y. Stringfield,
Director Office of Federal Advisory Committee Policy.

[FR Doc. 04-3173 Filed 2-12-04; 8:45 am]

BILLING CODE 4140-01-M